DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB) revision of a current information collection. The Federal Register Notice with a 60-day comment period soliciting comments on the following collection of information was published on October 31, 2008, vol. 73, no. 212, page 65004. The information collected is used to determine air operators' compliance with the minimum safety standards set out in the regulation and the applicant's eligibility for air operations certification.

DATES: Please submit comments by March 4, 2009.

FOR FURTHER INFORMATION CONTACT: Carla Mauney at Carla.Mauneyfaa.gov.

SUPPLEMENTARY INFORMATION:

Federal Aviation Administration (FAA)

Title: Operating Requirements: Domestic, Flag, and Supplemental Operations.

Type of Request: Revision of a currently approved collection.

OMB Control Number: 2120-0008.

Form(s): FAA Form 8070-1.

Affected Public: An estimated 106 Respondents.

Frequency: This information is collected on occasion.

Estimated Average Burden per Response: Approximately 27.5 hours per response.

Estimated Annual Burden Hours: An estimated 1,297,755 hours annually.

Abstract: 14 CFR Part 121 prescribes the requirements governing air carrier operations. The information collected is used to determine air operators' compliance with the minimum safety standards set out in the regulation and the applicant's eligibility for air operations certification.

ADDRESSES: Interested persons are invited to submit written comments on the proposed information collection to the Office of Information and Regulatory Affairs, Office of Management and Budget. Comments should be addressed to the attention of the Desk Officer, Department of Transportation/FAA, and sent via electronic mail to oirasubmission@omb.eop.gov, or faxed to (202) 395-6974, or mailed to the Office of Information and Regulatory Affairs, Office of Management and Budget, Docket Library, Room 10102, 725 17th Street, NW., Washington, DC 20503.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on January 26, 2009.
Carla Mauney,
FAA Information Collection Clearance Officer, IT Enterprises Business Services Division, AES-200.

[FR Doc. E9-1984 Filed 1-30-09; 8:45 am]

BILLING CODE 4910-13-M